Executive Order 14048 of September 30, 2021

Continuance or Reestablishment of Certain Federal Advisory Committees and Amendments to Other Executive Orders

By the authority vested in me as President, by the Constitution and the laws of the United States of America, and consistent with the provisions of the Federal Advisory Committee Act, as amended (5 U.S.C. App.), it is hereby ordered as follows:

Section 1. Each advisory committee listed below is continued or, to the extent necessary, reestablished until September 30, 2023.

(a) Committee for the Preservation of the White House; Executive Order 11145, as amended (Department of the Interior).

(b) President's Commission on White House Fellowships; Executive Order 11183, as amended (Office of Personnel Management).

(c) President's Committee on the National Medal of Science; Executive Order 11287, as amended (National Science Foundation).

(d) Federal Advisory Council on Occupational Safety and Health; Executive Order 11612, as amended (Department of Labor).

(e) President's Export Council; Executive Order 12131, as amended (Department of Commerce).

(f) President's Committee on the International Labor Organization; Executive Order 12216, as amended (Department of Labor).

(g) President's National Security Telecommunications Advisory Committee; Executive Order 12382, as amended (Department of Homeland Security).

(h) National Industrial Security Program Policy Advisory Committee; Executive Order 12829, as amended (National Archives and Records Administration).

(i) Trade and Environment Policy Advisory Committee; Executive Order 12905 (Office of the United States Trade Representative).

(j) Governmental Advisory Committee to the United States Representative to the North American Commission for Environmental Cooperation; Executive Order 12915 (Environmental Protection Agency).

(k) National Advisory Committee to the United States Representative to the North American Commission for Environmental Cooperation; Executive Order 12915 (Environmental Protection Agency).

(l) Good Neighbor Environmental Board; Executive Order 12916, as amended (Environmental Protection Agency).

(m) Presidential Advisory Council on HIV/AIDS; Executive Order 12963, as amended (Department of Health and Human Services).

(n) President's Committee for People with Intellectual Disabilities; Executive Order 12994, as amended (Department of Health and Human Services).

(o) Invasive Species Advisory Committee; Executive Order 13112, as amended (Department of the Interior).

(p) Advisory Board on Radiation and Worker Health; Executive Order 13179 (Department of Health and Human Services).

(q) National Infrastructure Advisory Council; Executive Order 13231, as amended (Department of Homeland Security).

(r) President's Council on Sports, Fitness, and Nutrition; Executive Order 13265, as amended (Department of Health and Human Services).

(s) Interagency Task Force on Veterans Small Business Development; Executive Order 13540 (Small Business Administration).

(t) State, Local, Tribal, and Private Sector (SLTPS) Policy Advisory Committee; Executive Order 13549 (National Archives and Records Administration).

(u) President's Advisory Commission on Educational Excellence for African Americans; Executive Order 13621 (Department of Education).

(v) President's Advisory Council on Doing Business in Africa; Executive Order 13675, as amended (Department of Commerce).

(w) Commerce Spectrum Management Advisory Committee; initially established pursuant to Presidential Memorandum on Improving Spectrum Management for the 21st Century (November 29, 2004) (Department of Commerce).

(x) National Space-Based Positioning, Navigation, and Timing Advisory Board; National Security Presidential Directive-39, “U.S. National Space-Based Position, Navigation, and Timing Policy” (December 8, 2004) (National Aeronautics and Space Administration).

(y) Grand Staircase-Escalante National Monument Advisory Committee; Proclamation 6920 of September 18, 1996, as amended (Department of the Interior).

(z) San Juan Islands National Monument Advisory Committee; Proclamation 8947 of March 25, 2013 (Department of the Interior).

(aa) Bears Ears National Monument Advisory Committee; Proclamation 9558 of December 28, 2016, as amended (Department of the Interior).

(bb) Gold Butte National Monument Advisory Committee; Proclamation 9559 of December 28, 2016 (Department of the Interior).

(cc) President's Council of Advisors on Science and Technology; Executive Order 14007, as amended (Department of Energy).

(dd) White House Environmental Justice Advisory Council; Executive Order 14008 (Environmental Protection Agency).

(ee) President's Advisory Commission on Asian Americans, Native Hawaiians, and Pacific Islanders; Executive Order 14031 (Department of Health and Human Services).

(ff) President's Board of Advisors on Historically Black Colleges and Universities; Executive Order 14041 (Department of Education).

(gg) Presidential Advisory Commission on Advancing Educational Equity, Excellence, and Economic Opportunity for Hispanics; Executive Order 14045 (Department of Education).

Sec. 2. Notwithstanding the provisions of any other Executive Order, the functions of the President under the Federal Advisory Committee Act that are applicable to the committees listed in section 1 of this order shall be performed by the head of the department or agency designated after each committee, in accordance with the regulations, guidelines, and procedures established by the Administrator of General Services.

Sec. 3. Sections 1 and 2 of Executive Order 13889 of September 27, 2019, are hereby superseded by sections 1 and 2 of this order.

Sec. 4. Executive Order 11287 of June 28, 1966, as amended, is further amended in section 2(a) by striking “twelve” and inserting in lieu thereof “fourteen.”

Sec. 5. Executive Order 12382 of September 13, 1982, as amended, is further amended as follows:

(a) by striking section 1, except subsection (c), and inserting before subsection (c) the following:

``Section 1. Establishment. (a) There is established the President's National Security Telecommunications Advisory Committee, which shall be composed of no more than 30 members. These members shall have particular knowledge and expertise in the fields of cybersecurity and of information and communications technology (ICT) and shall represent various elements of the Nation's telecommunications industry. Members of the Committee shall be appointed by the President.

(b) The President shall designate a Chair and Vice Chair from among the members of the Committee, each for a term of up to 2 years.”

(b) by striking sections 2 and 3, and inserting in lieu thereof the following new sections 2 and 3:

``Sec. 2. Functions. (a) The Committee shall provide to the President, through the Secretary of Homeland Security, information and advice from the perspective of relevant cybersecurity, ICT, and telecommunications industries on information assurance, cybersecurity, and the ICT ecosystem with respect to national security and emergency preparedness (NS/EP) concerns.

(b) The Committee shall provide information and advice to the President, through the Secretary of Homeland Security, regarding the feasibility of implementing specific measures to improve the resiliency and security of the digital and communications infrastructure of the United States.

(c) The Committee shall provide technical information, advice, and recommendations as it relates to NS/EP policy issues concerning cybersecurity, ICT, and telecommunications matters.

(d) The Committee shall periodically report on matters in this section to the President, through the Secretary of Homeland Security.

Sec. 3. Administration. (a) The heads of Executive agencies shall, to the extent permitted by law, provide the Committee with information concerning NS/EP policy issues specific to cybersecurity, ICT, and telecommunications matters in order for it to carry out its functions and mission. Information supplied to the Committee shall not, to the extent permitted by law, be available for public inspection.

(b) Members of the Committee shall serve without any compensation for their work on the Committee. However, to the extent permitted by law, they shall be entitled to travel expenses, including per diem in lieu of subsistence.

(c) Any expenses of the Committee shall, to the extent permitted by law, be paid from funds available to the Secretary of Homeland Security.”

(c) by striking section 4, except subsection (b) thereof, and inserting immediately preceding subsection (b) the following:

``Sec. 4. General. (a) Notwithstanding any other Executive Order, the functions of the President under the Federal Advisory Committee Act, as amended (5 U.S.C. App.), which are applicable to the Committee, except that of reporting annually to the Congress, shall be performed by the Secretary of Homeland Security, in accord with guidelines and procedures established by the Administrator of General Services.”

Sec. 6. Executive Order 13231 of October 16, 2001, as amended, is further amended in section 3(a) by striking “The President shall designate from among the members of the NIAC a Chair and a Vice Chair, who shall perform the functions of the Chair if the Chair is absent or disabled, or in the instance of a vacancy in the Chair” and inserting in lieu thereof “The President shall designate from among the members of the NIAC a Chair and a Vice Chair, who shall perform the functions of the Chair if the Chair is absent or disabled, or in the instance of a vacancy in the Chair, each for a term of up to two years.”

Sec. 7. Executive Order 13265 of June 6, 2002, as amended, is further amended as follows:

(a) in section 2(a), by striking “develop a national strategy” and inserting in lieu thereof “continue to promulgate a national strategy (the National Youth Sports Strategy).”

(b) in section 2, by striking the “and” at the end of subsection (a)(iii); striking the period at the end of subsection (a)(iv) and inserting in lieu thereof a semicolon; and inserting the following new subsections:

``(v) expand national awareness of the importance of mental health as it pertains to physical fitness and nutrition; and

(vi) share information about the positive effects of physical activity on mental health, particularly as it relates to children and adolescents, to combat the negative mental health impacts of the coronavirus disease 2019 (COVID-19) pandemic.”

(c) in section 4, by inserting after subsection (c) the following new subsection:

``(d) The Council members shall function as liaisons and spokespersons on behalf of the Council to relevant State, local, and private entities, and share information about the work of the Council in order to advise the Secretary regarding opportunities to extend and improve physical activity, fitness, sports, and nutrition programs and services at the State, local, and national levels.”

Sec. 8. This order shall be effective September 30, 2021.

THE WHITE HOUSE,

September 30, 2021.

[FR Doc. 2021-21908

Filed 10-4-21; 11:15 am]

Billing code 3395-F2-P